DEPARTMENT OF LABOR

Office of the Secretary

Submission for OMB Review: Comment Request

September 10, 2007.

The Department of Labor (DOL) hereby announces the submission of the following public information collection request (ICR) to the Office of Management and Budget (OMB) for review and approval in accordance with the Paperwork Reduction Act of 1995 (Pub. L. 104-13, 44 U.S.C. chapter 35). A copy of the ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Brian A. Harris-Kojetin, OMB Desk Officer for the Bureau of Labor Statistics (BLS), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Reinstatement without change of a previously approved collection.

Title: Displaced Worker, Job Tenure, and Occupational Mobility Supplement to CPS. OMB Number: 1220-0104.

Affected Public: Individuals or households.

Estimated Number of Respondents: 55,000.

Estimated Total Burden Hours: 7,333.

Estimated Total Annual Costs Burden: $0.

Description: The Displaced Worker, Job Tenure, and Occupational Mobility Supplement provides information on people who have lost or left jobs because their plant or company closed or moved, there was insufficient work for them to do, or their position or shift was abolished. It also gathers the number of years workers have been with their current employer and the economic impact of tenure. The information can be used to assess employment stability, displacement levels, occupational change over the year, and the need for, and scope of, programs serving adult displaced workers.

Darrin A. King,
Acting Departmental Clearance Officer.

[FR Doc. E7-18072 Filed 9-12-07; 8:45 am]

BILLING CODE 4510-24-P